FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573.

Advanced Shipping Corporation dba Star Cluster USA (NVO), 1908 E. Dominguez Street, Carson, CA 90810. Officer:Suwon Song, President (Qualifying Individual). Application Type: Trade Name Change.

American Cargoservice, Inc. (NVO & OFF), 7880 Convoy Court, San Diego, CA 92111. Officers:Terrence C. Simokat, President/CFO/Secretary (Qualifying Individual), Theodore Green, Stockholder. Application Type: New NVO & OFF License.

Aventura Logistics, Inc. (NVO & OFF), 18181 NE 31 Court, Suite 1203, Aventura, FL 33160. Officer:Iryna Klurman, President/Treasurer/Secretary/Director (Qualifying Individual), Application Type: New NVO & OFF License.

Cargo Express Logistics, LLC (NVO & OFF), 1170 Brighton Beach Avenue, Suite 3-C, Brooklyn, NY 11235. Officer:Julian A. Dozortcev, President (Qualifying Individual), Application Type: New NVO & OFF License.

Cedars Express International, Inc. (NVO & OFF), 960 E. Walnut Street, Carson, CA 90746. Officers:George Salloum, President/Secretary/Treasurer (Qualifying Individual), Carol Salloum, Vice President. Application Type: QI Change.

CN WorldWide Inc. (NVO), 935 de la Gauchetiere Street West, Montreal, Quebec H2B 2M9 Canada. Officers:Paul D. Tonsager, Vice President-North America (Qualifying Individual), Anita Ernesaks, President. Application Type: QI Change.

ECM Freight Solutions Corp (NVO), 9761 SW 12 Terrace, Miami, FL 33174. Officers:Christian A. Saravia, Vice President (Qualifying Individual), Eduardo N. Otero, President. Application Type: New NVO License.

Everplus Logistics Inc. (NVO & OFF), 3 University Plaza, Hackensack, NJ 07601. Officers:Danny Shin, Secretary/Treasurer (Qualifying Individual), Yun Kang, President. Application Type: New NVO & OFF License.

Globelink Logistics Inc. (NVO & OFF), 3 Whispering Pines Lane, Lakewood, NJ 08701. Officer:Mark Porges, President/Secretary/Treasurer (Qualifying Individual). Application Type: New NVO & OFF license.

“K” Line Logistics (U.S.A.) Inc. (NVO & OFF), 145 Hook Creek Blvd., C5B, Valley Stream, NY 11581. Officers:Antonio Rodriguez, Vice President (Qualifying Individual), Torri Hideyuki, President. Application Type: Add NVO Service.

Norma's Cargo Solutions, LLC (NVO & OFF), 5665 SW 8th Street, Miami, FL 33134. Officer:Norma A. Pineiro, Managing Member (Qualifying Individual). Application Type: Add NVO Service.

Pacific Glory USA, Inc (NVO & OFF), 5673 Old Dixie Highway, #102, Forest Park, GA 30297. Officer:Kil Ra, CEO (Qualifying Individual). Application Type: Add NVO Service.

Primex Cargo, Inc. (NVO), 9210 Bloomfield Avenue, Suite 103, Cypress, CA 90630. Officer:Chris H. Kang, President/Secretary/Treasurer (Qualifying Individual). Application Type: New NVO License.

Unico Logistics USA, Inc. (NVO), 10711 Walker Street, #B, Cypress, CA 90630. Officers:Hwa Y. Yoon, Secretary (Qualifyng Individual), Dookee Kim, CEO/CFO. Application Type: QI Change.

Unique Logistics International (LAX), Inc. (NVO), 16330 Marquardt Avenue, Cerritos, CA 90703. Officers:Sunandan Ray, CEO (Qualifying Individual), Richard Lee. Application Type: QI Change.

United Shipping Group Inc. (OFF), 1307 E. Colorado Street, Glendale, CA 91205. Officer:Mkrtich Tamrazyan, President (Qualifying Individual). Application Type: New OFF License.

Dated: August 26, 2010.
Rachel E. Dickon,
Assistant Secretary.

[FR Doc. 2010-21885 Filed 8-31-10; 8:45 am]

BILLING CODE 6730-01-P